DEPARTMENT OF THE INTERIOR

National Park Service

[NPS-WASO-NRNHL-DTS#-26800; PPWOCRADI0, PCU00RP14.R50000]

National Register of Historic Places; Notification of Pending Nominations and Related Actions

AGENCY: National Park Service, Interior.

ACTION: Notice.

SUMMARY: The National Park Service is soliciting comments on the significance of properties nominated before October 13, 2018, for listing or related actions in the National Register of Historic Places.

DATES: Comments should be submitted by November 9, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 13, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Baldwin County

Foley Downtown Historic District (Boundary Increase), Parts of N&S Alston, N & S McKenzie, Laurel & Pine Sts., W Myrtle, E & W Rose, W Orange & W Jessamine Aves. Foley, BC100003122

Franklin County

Russellville Commercial Historic District, Along sections of Jackson & Coffee Aves., Lawrence, Lauderdale & Madison Sts., Russellville, SG100003123

ARIZONA

Maricopa County

Roman Roads, 1691 E Maryland Ave., Phoenix, SG100003124

Yavapai County

Camp Verde Grammar School, 435 S Main St., Camp Verde, SG100003126

COLORADO

Chaffee County

Gas Creek School (Rural School Buildings in Colorado MPS), 20925 US 285, Nathrop vicinity, MP100003127

Junction City—Garfield School, Gimlett—LeFevre Cabin, 22555 Martin St., Garfield, SG100003128

DISTRICT OF COLUMBIA

District of Columbia

Bloomingdale Historic District, Bounded by Florida Ave., Channing, Bryant, North Capital & 2nd Sts., Washington, SG100003129

NEW JERSEY

Cape May County

U.S. Coast Guard Motor Lifeboat CG-36538, 673 US 9, Lower Township, SG100003132

NEW YORK

New York County

Columbus Monument, Columbus Circle, New York, SG100003133

PENNSYLVANIA

Allegheny County

Ford Motor Company Assembly Plant, 5000 Baum Blvd., Pittsburgh, SG100003134

Philadelphia County

Crown Can Company Building, 956 E Erie Ave., Philadelphia, SG100003136

Strawbridge and Clothier Department Store Warehouse, 901 Poplar St., Philadelphia, SG100003137

TEXAS

Franklin County

Mount Vernon Downtown Historic District, Roughly bounded by RR tracks, Jackson, Taylor & Holbrook Sts., Mount Vernon, SG100003140

Taylor County

Fulwiler, William J., House (Abilene MPS), 910 Highland St., Abilene, 92000192

WYOMING

Sweetwater County

Outlaw Inn, 1630 Elk St., Rock Springs, SG100003142

An owner objection received for the following resources:

PENNSYLVANIA

Lackawanna County

Scranton State School for the Deaf, 1800 N Washington Ave., Scranton, SG100003135

Additional documentation has been received for the following resources:

ARIZONA

Pima County

San Clemente Historic District, 336 S Calle de Madrid, Tucson, AD04001156

RHODE ISLAND

Washington County

Dunes Club, The, 137 Boston Neck Rd., Narragansett, AD15000243

TEXAS

Tarrant County

Fort Worth Stockyards Historic District, 2403 N Main St., Fort Worth, AD76002067

Authority: Section 60.13 of 36 CFR part 60.

Dated: October 15, 2018.
Christopher Hetzel,
Acting Chief, National Register of Historic Places/National Historic Landmarks Program.

[FR Doc. 2018-23317 Filed 10-24-18; 8:45 am]

BILLING CODE 4312-52-P